LIBRARY OF CONGRESS

Copyright Office

37 CFR Part 201

[Docket No. RM 2005-5]

Retransmission of Digital Broadcast Signals Pursuant to the Cable Statutory License

AGENCY: Copyright Office, Library of Congress.

ACTION: Extension of time to file comments and reply comments.

SUMMARY: The Copyright Office is extending the time in which comments and reply comments may be filed in response to its Notice of Proposed Rulemaking regarding the retransmission of digital television broadcast signals by cable operators under Section 111 of the Copyright Act.

DATES: Comments are due July 31, 2008. Reply Comments are due September 16, 2008.

ADDRESSES: If hand delivered by a private party, an original and five copies of a comment or reply comment should be brought to the Library of Congress, U.S. Copyright Office, Room LM-401, James Madison Building, 101 Independence Ave., SE, Washington, DC 20559, between 8:30 a.m. and 5 p.m. The envelope should be addressed as follows: Office of the General Counsel, U.S. Copyright Office.

If delivered by a commercial courier, an original and five copies of a comment or reply comment must be delivered to the Congressional Courier Acceptance Site (“CCAS”) located at 2nd and D Streets, NE, Washington, DC between 8:30 a.m. and 4 p.m. The envelope should be addressed as follows: Office of the General Counsel, U.S. Copyright Office, LM-403, James Madison Building, 101 Independence Avenue, SE, Washington, DC 20559. Please note that CCAS will not accept delivery by means of overnight delivery services such as Federal Express, United Parcel Service or DHL.

If sent by mail (including overnight delivery using U.S. Postal Service Express Mail), an original and five copies of a comment or reply comment should be addressed to U.S. Copyright Office, Copyright GC/I&R, P.O. Box 70400, Washington, DC 20024.

FOR FURTHER INFORMATION CONTACT: Ben Golant, Assistant General Counsel, and Tanya M. Sandros, General Counsel, Copyright GC/I&R, P.O. Box 70400, Washington, DC 20024. Telephone: (202) 707-8380. Telefax: (202) 707-8366.

SUPPLEMENTARY INFORMATION: On June 2, 2008, the Copyright Office published a Notice of Proposed Rulemaking (“NPRM”) seeking comment on specific proposals and policy recommendations related to the retransmission of digital television signals by cable operators under Section 111 of the Copyright Act. See 73 FR 31399 (June 2, 2008). On June 30, 2008, the Copyright Office published its Section 109 Report to Congress which, inter alia, broadly discussed the continuing need for the cable statutory license (“Report”). The Report also examined many of the digital signal retransmission issues that were initially raised in the NPRM and recommended changes to the existing statute to accommodate digital television in the cable statutory license royalty scheme. See Satellite Home Viewer Extension and Reauthorization Act ~109 Report at 108-114.

On July 7, 2008, the National Cable and Telecommunications Association (“NCTA”) filed a request for an extension of time to file comments and reply comments in this proceeding. NCTA asks for an extension because “(f)urther study of the recently-released Report is necessary to assess its relationship to the rules proposed in the Digital NPRM and its impact, if any, on comments that may be filed in that proceeding.” NCTA requests a brief two week extension so that comments would be due on July 31, 2008 and September 16, 2008.

Given the complexity of the issues raised in the NPRM, and the publication of the Section 109 Report to Congress thereafter, the Office grants the request to extend the comment and reply comment dates in this proceeding. Comments are now due on July 31, 2008 and reply comments are due on September 16, 2008.

Dated: July 8, 2008
Tanya Sandros,
General Counsel
U.S. Copyright Office

[FR Doc. E8-15951 Filed 7-11-08; 8:45 am]

BILLING CODE 1410-30-S